DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on November 1, 2013, through November 30, 2013. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Vaccine Injury Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: December 19, 2013.
Mary K. Wakefield,
Administrator.

List of Petitions Filed

1. Ronda Odom, Weatherford, Texas, Court of Federal Claims No: 13-0865V

2. Kendy Sue Wilson, Sterling Heights, Michigan, Court of Federal Claims No: 13-0866V

3. Bernard Zyk, Vienna, Virginia, Court of Federal Claims No: 13-0868V

4. Matthew Rupert, Scarsdale, Connecticut, Court of Federal Claims No: 13-0869V

5. Karen Schuler, Mesa, Arizona, Court of Federal Claims No: 13-0872V

6. Cynthia Winward on behalf of James Winward, Yuba City, California, Court of Federal Claims No: 13-0873V

7. Elaine S. Tito, Saco, Maine, Court of Federal Claims No: 13-0878V

8. Samuel Gray, Lewiston, Maine, Court of Federal Claims No: 13-0880V

9. Douglas D. Nichols, Sarasota, Florida, Court of Federal Claims No: 13-0883V

10. James and Valerie Myers on behalf of Malakai Myers, Phoenix, Arizona, Court of Federal Claims No: 13-0885V

11. Valerie Cozbey, Columbus, Georgia, Court of Federal Claims No: 13-0886V

12. Harry McCarter on behalf of Lillie Mae McCarter, Deceased, Birmingham, Alabama, Court of Federal Claims No: 13-0887V

13. Meryl Thibodeaux, Houma, Louisiana, Court of Federal Claims No: 13-0891V

14. Melanie A. Frampton, Pittsburgh, Pennsylvania, Court of Federal Claims No: 13-0892V

15. Ketleen Dormeus and Duranton Dormeus, Philadelphia, Pennsylvania, Court of Federal Claims No: 13-0893V

16. Jaime Renee Brunkan, Linwood, New Jersey, Court of Federal Claims No: 13-0894V

17. Laura J. Lebel, Hartford, Connecticut, Court of Federal Claims No: 13-0897V

18. Melva Mooneyham, Fort Smith, Arizona, Court of Federal Claims No: 13-0899V

19. Lisa N. Button, Fort Myers, Florida, Court of Federal Claims No: 13-0900V

20. Steve Lehrman, Homestead, Pennsylvania, Court of Federal Claims No: 13-0901V

21. Patricia K. Patterson, Rochester, New York, Court of Federal Claims No: 13-0902V

22. Patricia Huhmann, Fishers, Indiana, Court of Federal Claims No: 13-0903V

23. James D. Saffold, Brandon, Florida, Court of Federal Claims No: 13-0905V

24. Mary-Lou A. Green, Syracuse, New York, Court of Federal Claims No: 13-0911V

25. Courtney Miller and Bernard Miller on behalf of Ella Mae Miller, Spokane, Washington, Court of Federal Claims No: 13-0914V

26. Dorothy Dickinson, Sarasota, Florida, Court of Federal Claims No: 13-0915V

27. Sharon Bosco, New Haven, Connecticut, Court of Federal Claims No: 13-0916V

28. Kiona Warren, Fort Lauderdale, Florida, Court of Federal Claims No: 13-0919V

29. Roberta Green, Hurricane, West Virginia, Court of Federal Claims No: 13-0920V

30. Kevin Thompson, Brooklyn, New York, Court of Federal Claims No: 13-0921V

31. Charles W. Brown on behalf of Kathryn C. Brown, Deceased, Wichita, Kansas, Court of Federal Claims No: 13-0922V

32. David W. Crippen, Pittsburgh, Pennsylvania, Court of Federal Claims No: 13-0923V

33. Maria and Joel Gonzalez on behalf of Joel Gonzalez, Jr., San Jose, California, Court of Federal Claims No: 13-0927V

34. Michael Swann, Leeds, Massachusetts, Court of Federal Claims No: 13-0928V

35. Debbie Bretag, Chicago, Illinois, Court of Federal Claims No: 13-0930V

36. Lise Marquis, Phoenix, Arizona, Court of Federal Claims No: 13-0932V

37. Linda G. Kimbell, Atlanta, Georgia, Court of Federal Claims No: 13-0936V

38. John Jastisan, Philadelphia, Pennsylvania, Court of Federal Claims No: 13-0937V

39. Caroline Courbois, Washington, District of Columbia, Court of Federal Claims No: 13-0939V

40. Louis R. Brockington, Florence, South Carolina, Court of Federal Claims No: 13-0941V

41. Estate of Raul Torres, Sr. on behalf of Raul Torres, Sr., Deceased, San Antonio, Texas, Court of Federal Claims No: 13-0943V

[FR Doc. 2013-31283 Filed 12-30-13; 8:45 am]

BILLING CODE 4165-15-P